EQUAL EMPLOYMENT OPPORTUNITY COMMISSION

Agency Information Collection Activities: Submission for OMB Review; Final Comment Request

AGENCY: Equal Employment Opportunity Commission.

ACTION: Final notice of submission for OMB review.

SUMMARY: In accordance with the Paperwork Reduction Act, the Equal Employment Opportunity Commission (EEOC) has submitted a request for clearance of the information collection described below to the Office of Management and Budget (OMB). A notice that the EEOC would be submitting this request was published in the Federal Register on March 1, 2000, allowing for a 60-day public comment period. No public comments were received.

DATES: Written comments on this final notice must be submitted on or before July 13, 2000.

ADDRESSES: Comments on this final notice should be submitted to the Office of Information and Regulatory Affairs, Attention: Stuart Shapiro, Desk Officer for the U.S. Equal Employment Opportunity Commission, Office of Management and Budget, 725 17th Street, NW., Room 10235, New Executive Office Building, Washington, DC 20503 or electronically mailed to SSHAPIRO@OMB.EOP.GOV. Requests for copies of the proposed information collection request should be addressed to Mr. Neckere at the address below.

FOR FURTHER INFORMATION CONTACT: Joachim Neckere, Director, Program Research and Surveys Division, 1801 L Street, NW., Room 9222, Washington, DC 20507, (202) 663-4958 (voice) or (202) 663-7063 (TDD).

SUPPLEMENTARY INFORMATION:

Collection Title: State and Local Government Information (EEO-4).

OMB Number: 3046-0008.

Frequency of Report: Biennial.

Type of Respondent: State and local government jurisdictions with 100 or more full-time employees.

Description of Affected Public: State and local governments excluding elementary and secondary public school districts.

Number of Responses: 10,000.

Reporting Hours: 40,000.

Number of Forms: 1.

Federal Cost: $47,000.

Abstract: Section 709(c) of Title VII of the Civil Rights Act of 1964, as amended, 42 U.S.C. 2000e-8(c), requires employers to make and keep records relevant to a determination of whether unlawful employment practices have been or are being committed and to make reports therefrom as required by the EEOC. Accordingly, the EEOC has issued regulations which set forth the reporting requirements for various kinds of employers. State and local governments with 100 or more full-time employees have been required to submit EEO-4 reports since 1973 (biennially in odd-numbered years since 1993). The individual reports are confidential.

EEO-4 data are used by the EEOC to investigate charges of discrimination against state and local governments. In addition, the data are used to support EEOC decisions and conciliations, and for research. The data are shared with several other Federal government agencies. Pursuant to section 709(d) of Title VII of the Civil Rights Act of 1964, as amended, EEO-4 data are also shared with 86 State and Local Fair Employment Practices Agencies (FEPAs). Aggregated data are also used by researchers and the general public.

Burden Statement: The estimated number of respondents included in the EEO-4 survey is 5,000 state and local governments. The estimated number of responses per respondent is approximately 2 EEO-4 reports and the reporting burden averages between 1 and 5 hours per response, including the time needed to review instructions, search existing data sources, gather and maintain the data, and complete and review the collection of information. The total number of responses is thus 10,000 reports while the total burden is estimated to be 40,000 hours, including recordkeeping burden. In order to help reduce burden, respondents are encouraged to report data on electronic media such as magnetic tapes and diskettes.

Dated: June 7, 2000.
For the Commission.
Ida L. Castro,
Chairwoman.

[FR Doc. 00-14889 Filed 6-12-00; 8:45 am]

BILLING CODE 6750-01-M